DEPARTMENT OF TRANSPORTATION

Federal Aviation Administration

14 CFR Part 39

[Docket No. FAA-2024-1299; Project Identifier MCAI-2023-00237-A]

RIN 2120-AA64

Airworthiness Directives; Britten-Norman Aerospace Ltd. Airplanes

AGENCY: Federal Aviation Administration (FAA), DOT.

ACTION: Notice of proposed rulemaking (NPRM).

SUMMARY: The FAA proposes to adopt a new airworthiness directive (AD) for certain Britten-Norman Aerospace Ltd. Model BN-2, BN-2A, BN-2A-2, BN-2A-3, BN-2A-6, BN-2A-8, BN-2A-9, BN-2A-20, BN-2A-21, BN-2A-26, BN-2A-27, BN-2B-20, BN-2B-21, BN-2B-26, BN-2B-27, BN-2T, BN2T-4R, and BN2T-4S airplanes; and Model BN2A MK. III, BN2A MK. III-2, and BN2A MK. III-3 airplanes. This proposed AD was prompted by the determination that in order to ensure the continued structural integrity of certain landing gear and associated components, it is necessary to require removal of these components from service prior to exceeding established fatigue lives. This proposed AD would require determining the number of landings on affected main landing gears (MLGs), nose landing gears (NLGs), and associated components; removing from service any part that has reached or exceeded the established fatigue life and installing a replacement part; and prohibiting the installation of any affected part unless the number of landings for that part is below the established fatigue life. The FAA is proposing this AD to address the unsafe condition on these products.

DATES: The FAA must receive comments on this NPRM by July 1, 2024.

ADDRESSES: You may send comments, using the procedures found in 14 CFR 11.43 and 11.45, by any of the following methods:

• Federal eRulemaking Portal: Go to regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2024-1299; or in person at Docket Operations between 9 a.m. and 5 p.m., Monday through Friday, except Federal holidays. The AD docket contains this NPRM, the mandatory continuing airworthiness information (MCAI), any comments received, and other information. The street address for Docket Operations is listed above.

Material Incorporated by Reference:

• For service information, contact Britten-Norman Aerospace Ltd., Bembridge Airport, Bembridge, Isle of Wight, UK, PO35 5PR; phone: +44 20 3371 4000; email: customer.support@britten-norman.com; website: britten-norman.com/approvals-technical-publications.

• You may view this service information at the FAA, Airworthiness Products Section, Operational Safety Branch, 901 Locust, Kansas City, MO 64106. For information on the availability of this material at the FAA, call (817) 222-5110.

FOR FURTHER INFORMATION CONTACT: Penelope Trease, Aviation Safety Engineer, FAA, 1600 Stewart Avenue, Suite 410, Westbury, NY 11590; phone: (303) 342-1094; email: penelope.trease@faa.gov.

SUPPLEMENTARY INFORMATION:

Comments Invited

The FAA invites you to send any written relevant data, views, or arguments about this proposal. Send your comments to an address listed under ADDRESSES. Include “Docket No. FAA-2024-1299; Project Identifier MCAI-2023-00237-A” at the beginning of your comments. The most helpful comments reference a specific portion of the proposal, explain the reason for any recommended change, and include supporting data. The FAA will consider all comments received by the closing date and may amend this proposal because of those comments.

Except for Confidential Business Information (CBI) as described in the following paragraph, and other information as described in 14 CFR 11.35, the FAA will post all comments received, without change, to regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Penelope Trease, Aviation Safety Engineer, FAA, 1600 Stewart Avenue, Suite 410, Westbury, NY 11590. Any commentary that the FAA receives which is not specifically designated as CBI will be placed in the public docket for this rulemaking.

Background

The Civil Aviation Authority (CAA), which is the airworthiness authority for the United Kingdom (UK), issued AD G-2023-0001, dated February 8, 2023 (also referred to as the MCAI), to correct an unsafe condition on Britten-Norman Aircraft Ltd. (now Britten-Norman Aerospace Ltd.) Model BN2 series Islander (BN2, BN2A, A-2, A-3, A-6, A-8, -9, -20, -21, -26, -27; BN2B-20, -21, -26, -27; BN2T; and BN2T-4R, -4S) airplanes; and Model BN2A Mark III Trislander (BN.2A MARK III, BN.2A MARK III-1, BN.2A MARK III-2, and BN.2A MARK III-3) airplanes, fitted with landing gear and associated components manufactured by Fairey Hydraulics Ltd (FHL) and Britten-Norman Aircraft (BNA). The MCAI states that to ensure the continued safe operation of the Islander's and Trislander's NLG, MLG, and associated components, the manufacturer and the UK CAA determined that affected parts exceeding the established fatigue lives must be removed from service and that installation of parts that have reached their established fatigue lives must be prohibited.

The FAA is proposing this AD to address this unsafe condition. Exceeding the established fatigue life, if not addressed, could result in failure of the structural integrity of the landing gear and associated components, which could result in damage to the airplane and injury to occupants.

You may examine the MCAI in the AD docket at regulations.gov under Docket No. FAA-2024-1299.

Related Service Information Under 1 CFR Part 51

The FAA reviewed Britten-Norman Service Bulletin SB 298, Issue 3, dated July 7, 2023. This service information provides procedures for identifying the affected MLGs, NLGs, and associated components that need to have the number of landings tracked and provides the associated fatigue life. This service information also specifies to remove from service any affected part that exceeds the specified fatigue life.

This service bulletin is reasonably available because the interested parties have access to it through their normal course of business or by the means identified in ADDRESSES.

FAA's Determination

These products have been approved by the aviation authority of another country and are approved for operation in the United States. Pursuant to the FAA's bilateral agreement with this State of Design Authority, it has notified the FAA of the unsafe condition described in the MCAI and service information referenced above. The FAA is issuing this NPRM after determining that the unsafe condition described previously is likely to exist or develop on other products of the same type design.

Proposed AD Requirements in This NPRM

This proposed AD would require accomplishing the actions specified in the service information already described. This proposed AD would also prohibit the installation of a MLG, NLG, or associated component unless it is a part eligible for installation.

Costs of Compliance

The FAA estimates that this AD, if adopted as proposed, would affect 87 airplanes of U.S. registry.

The FAA estimates the following costs to comply with this proposed AD:

Estimated Costs
Action | Labor cost | Parts cost | Cost per product | Cost on U.S. operators
Determine the number of landings accumulated on affected MLGs, NLGs, and associated components | 1 work-hour × $85 per hour = $85 | $0 | $85 | $7,395.
Replace MLG | 16 work-hours × $85 per hour = $1,360 | 30,000 | $31,360 | $2,728,320.
Replace NLG | 16 work-hours × $85 per hour = $1,360 | 35,000 | $36,360 | $3,163,320.
Replace associated components | Up to 4 work-hours × $85 per hour = $340 | 4,000 | Up to $4,340 | Up to $377,580.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national government and the States, or on the distribution of power and responsibilities among the various levels of government.

For the reasons discussed above, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

Britten-Norman Aerospace Ltd.: Docket No. FAA-2024-1299; Project Identifier MCAI-2023-00237-A.

(a) Comments Due Date

The FAA must receive comments on this airworthiness directive (AD) by July 1, 2024.

(b) Affected ADs

None.

(c) Applicability

This AD applies to certain Britten-Norman Aerospace Ltd. airplanes fitted with Fairey Hydraulics Ltd or Britten-Norman Aircraft landing gear and associated landing gear components, certificated in any category, identified in paragraphs (c)(1) and (2) of this AD.

(1) Model BN-2, BN-2A, BN-2A-2, BN-2A-3, BN-2A-6, BN-2A-8, BN-2A-9, BN-2A-20, BN-2A-21, BN-2A-26, BN-2A-27, BN-2B-20, BN-2B-21, BN-2B-26, BN-2B-27, BN-2T, BN2T-4R, and BN2T-4S airplanes.

(2) Model BN2A MK. III, BN2A MK. III-2, and BN2A MK. III-3 airplanes.

(d) Subject

Joint Aircraft System Component (JASC) Code 3200, Landing Gear System.

(e) Unsafe Condition

This AD was prompted by the determination that in order to ensure the continued structural integrity of certain landing gear and associated components, it is necessary to require removal of these components from service prior to exceeding established fatigue lives. Exceeding the established fatigue life, if not addressed, could result in failure of the structural integrity of the landing gear, which could result in damage to the airplane and injury to occupants.

(f) Compliance

Comply with this AD within the compliance times specified, unless already done.

(g) Definitions

For the purposes of this AD:

(1) An “affected part” is a main landing gear (MLG), nose landing gear (NLG), or component identified in Table 1, 2, or 3 of Section 6 in Britten-Norman SB 298, Issue 3, dated July 7, 2023 (Britten-Norman SB 298, Issue 3).

(2) A “part eligible for installation” is an MLG, NLG, or component with a part that has been established to be below the associated fatigue life identified in Table 1, 2, or 3 of Section 6 in Britten-Norman SB 298, Issue 3.

(h) Required Actions

(1) Within 30 days after the effective date of this AD, determine the number of landings accumulated on the affected parts.

(2) Before accumulating the number of landings (fatigue life) associated with the applicable affected part as identified in Table 1, 2, or 3 of Section 6 in Britten-Norman SB 298, Issue 3, or within the next 30 days after the effective date of this AD, whichever occurs later, replace any affected part with a part eligible for installation.

(3) Thereafter, replace any affected part with a part eligible for installation before accumulating the fatigue life, as identified in Table 1, 2, or 3 of Section 6 in Britten-Norman SB 298, Issue 3.

(4) As of the effective date of this AD, do not install a MLG, NLG, or associated component unless it is a part eligible for installation.

(i) Alternative Methods of Compliance (AMOCs)

The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (j)(2) of this AD or email to: 9-AVS-AIR-730-AMOC@faa.gov. If mailing information, also submit information by email. Before using any approved AMOC, notify your appropriate principal inspector, or lacking a principal inspector, the manager of the local Flight Standards District Office/certificate holding district office.

(j) Additional Information

(1) Refer to United Kingdom (UK) Civil Aviation Authority (CAA) AD G-2023-0001, dated February 8, 2023, for related information. This UK CAA AD may be found in the AD docket at regulations.gov under Docket No. FAA-2024-1299.

(2) For more information about this AD, contact Penelope Trease, Aviation Safety Engineer, FAA, 1600 Stewart Avenue, Suite 410, Westbury, NY 11590; phone: (303) 342-1094; email: penelope.trease@faa.gov.

(k) Material Incorporated by Reference

(1) The Director of the Federal Register approved the incorporation by reference of the service information listed in this paragraph under 5 U.S.C. 552(a) and 1 CFR part 51.

(2) You must use this service information as applicable to do the actions required by this AD, unless the AD specifies otherwise.

(i) Britten-Norman Service Bulletin SB 298, Issue 3, dated July 7, 2023.

(ii) [Reserved]

(3) For service information, contact Britten-Norman Aerospace Ltd., Bembridge Airport, Bembridge, Isle of Wight, UK, PO35 5PR; phone: +44 20 3371 4000; email: customer.support@britten-norman.com; website: britten-norman.com/approvals-technical-publications.

(4) You may view this service information at the FAA, Airworthiness Products Section, Operational Safety Branch, 901 Locust, Kansas City, MO 64106. For information on the availability of this material at the FAA, call (817) 222-5110.

(5) You may view this material at the National Archives and Records Administration (NARA). For information on the availability of this material at NARA, visit www.archives.gov/federal-register/cfr/ibr-locations or email fr.inspection@nara.gov.

Issued on May 7, 2024.
James D. Foltz,
Deputy Director, Compliance & Airworthiness Division, Aircraft Certification Service.

[FR Doc. 2024-10295 Filed 5-16-24; 8:45 am]

BILLING CODE 4910-13-P